ENVIRONMENTAL PROTECTION AGENCY

[FRL-7860-4]

Science Advisory Board (SAB) Staff Office; Notification of Upcoming Science Advisory Board Meeting

AGENCY: Environmental Protection Agency (EPA).

ACTION: Notice.

SUMMARY: The EPA Science Advisory Board (SAB) Staff Office announces a public teleconference meeting to discuss the review of two draft SAB reports.

DATES: January 26, 2005, 1-3 pm (Eastern Time).

ADDRESSES: The meeting for these reviews will be held by telephone only.

FOR FURTHER INFORMATION CONTACT: Members of the public who wish to obtain further information regarding this teleconference meeting may contact Mr. Thomas O. Miller, Designated Federal Officer (DFO), U.S. EPA Science Advisory Board via phone (202-343-9982) or e-mail at miller.tom@epa.gov.

The SAB Mailing address is: U.S. EPA, Science Advisory Board (1400F), 1200 Pennsylvania Avenue, NW., Washington, DC 20460. General information about the SAB, as well as any updates concerning the meeting announced in this notice, may be found on the SAB Web site at: http://www.epa.gov/sab.

SUPPLEMENTARY INFORMATION: The purpose of this SAB telephone conference meeting is to conduct a public review and discussion of the two SAB draft reports; Review of EPA's Drinking Water Research Program Multi-Year Plan 2003, and Advisory on the Office of Research and Development's Contaminated Sites and RCRA Multi-Year Plans. The focus of the discussion will consider if: (i) The original charge questions to the SAB review panels have been adequately addressed in the draft reports, (ii) the draft reports are clear and logical; (iii) the conclusions drawn, or recommendations made in the draft reports, are supported by the body of the reports; and (iv) if there are any obvious technical errors, omissions, or issues that are inadequately dealt with in the draft reports.

Availability of Review Material for the Board Meeting: Documents that are the subject of this meeting are available on the SAB Web site at: http://www.epa.gov/sab/drrep.htm.

Procedures for Providing Public Comment: The SAB Staff Office accepts written public comments of any length, and accommodates oral public comments whenever possible. The SAB Staff Office expects that public statements presented at SAB meetings will not be repetitive of previously submitted oral or written statements. Oral Comments: In general, each individual or group requesting an oral presentation at a teleconference meeting will usually be limited to no more than three minutes per speaker and no more than fifteen minutes total. Interested parties should contact the DFO noted above in writing via e-mail at least one week prior to the meeting in order to be placed on the public speaker list for the meeting. Speakers should provide an electronic copy of their comments for distribution to interested parties and participants in the meeting. Written Comments: Although written comments are accepted until the date of the meeting (unless otherwise stated), written comments should be received in the SAB Staff Office at least one week prior to the meeting date so that the comments may be made available to the committee for their consideration. Comments should be supplied to the DFO at the address/contact information above in the following formats: one hard copy with original signature, and one electronic copy via e-mail (acceptable file format: Adobe Acrobat, WordPerfect, Word, or Rich Text files (in IBM-PC/Windows 98/2000/XP format).

Meeting Accommodations: Individuals requiring special accommodation to access this teleconference meeting, should contact the DFO at least five business days prior to the meeting so that appropriate arrangements can be made.

Dated: January 5, 2005.
Vanessa T. Vu,
Director, EPA Science Advisory Board Staff Office.

[FR Doc. 05-502 Filed 1-10-05; 8:45 am]

BILLING CODE 6560-50-P